ENVIRONMENTAL PROTECTION AGENCY

40 CFR Part 52

[EPA-R03-OAR-2019-0562; FRL-10014-11-Region 3]

Air Plan Approval; Pennsylvania; Reasonably Available Control Technology (RACT) for Volatile Organic Compounds (VOC) Under the 2008 Ozone National Ambient Air Quality Standards (NAAQS)

AGENCY: Environmental Protection Agency (EPA).

ACTION: Final rule.

SUMMARY: The Environmental Protection Agency (EPA) is approving two state implementation plan (SIP) revisions submitted by the Commonwealth of Pennsylvania. These revisions address certain reasonably available control technology (RACT) requirements, specifically those related to control technique guidelines (CTGs) for volatile organic compounds (VOCs) and the addition of regulations controlling VOC emissions from industrial cleaning solvents. These submissions are part of Pennsylvania's efforts to implement RACT for the 2008 ozone national ambient air quality standard (NAAQS). EPA is approving these revisions to the Pennsylvania SIP in accordance with the requirements of the Clean Air Act (CAA).

DATES: This final rule is effective on January 13, 2021.

ADDRESSES: EPA has established a docket for this action under Docket ID Number EPA-R03-OAR-2019-0562. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: David Talley, Planning & Implementation Branch (3AD30), Air & Radiation Division, U.S. Environmental Protection Agency, Region III, 1650 Arch Street, Philadelphia, Pennsylvania 19103. The telephone number is (215) 814-2117. Mr. Talley can also be reached via electronic mail at talley.david@epa.gov.

SUPPLEMENTARY INFORMATION:

I. Background

On March 5, 2020, (85 FR 12877), EPA published a notice of proposed rulemaking (NPRM) for the Commonwealth of Pennsylvania. In the NPRM, EPA proposed approval of two SIP revisions which were submitted by the Pennsylvania Department of Environmental Protection (PADEP) and were intended to address RACT requirements for sources of VOC emissions required by section 184(b)(l)(B) of the CAA and the implementing regulations for the 2008 ozone NAAQS (80 FR 12264, March 6, 2015; 40 CFR part 51, subpart AA). In addition, the submittals were intended to address certain parts of the finding EPA issued in 2017 that Pennsylvania failed to submit required SIP revisions. “Findings of Failure to Submit State Implementation Plan Submittals for the 2008 Ozone National Ambient Air Quality Standards,” (82 FR 9158; February 3, 2017). The formal SIP revisions were submitted by the Commonwealth of Pennsylvania on August 13, 2018.

II. Summary of SIP Revision and EPA Analysis

Pennsylvania's August 13, 2018 SIP submissions are intended to meet the RACT requirements for VOCs under section 184(b)(1)(B) of the CAA and the implementing regulations for the 2008 ozone NAAQS found at 40 CFR part 51, subpart AA. These submittals are discussed in detail in sections II.A. and B. of this preamble. Additional information can be found in the NPRM and in EPA's Technical Support Document (TSD) in the docket for this action.

A. Pennsylvania's RACT Certification of CTGs and Request To Incorporate New Source Performance Standards Into the SIP

The first submittal is entitled: “Certification of Reasonably Available Control Technology for Control Techniques Guidelines Under the 2008 Ozone National Ambient Air Quality Standards and Incorporation of 25 Pa Code Chapter 122 (Relating to National Standards of Performance for New Stationary Sources) into the Commonwealth's State Implementation Plan.” This submittal: (1) Certifies that PADEP's adoption and implementation of regulations to control VOC emissions is consistent with EPA's CTGs and therefore represents RACT for these covered CTG sources for the 2008 ozone standard; (2) incorporates 25 Pa. Code Chapter 122 (relating to national standards of performance for new stationary sources) into the Pennsylvania SIP and certifies that those provisions represent RACT for certain facilities subject to such standards of performance; and (3) incorporates specific permit conditions for certain facilities for the purpose of establishing source-specific RACT-level controls for those facilities.

1. CTGs

PADEP developed regulations consistent with each CTG addressed by the submittal and has determined that each represents RACT for the 2008 ozone NAAQS. A list of the CTGs for which Pennsylvania has adopted regulations that PADEP considered in making this determination is found in Table 1, beginning on page 12 of the August 13, 2018 submittal. PADEP based this certification on the following: (1) Certification that Pennsylvania's regulations meet the CAA RACT requirements, are based on the most currently available technically and economically feasible controls, and represent RACT for implementation purposes pertaining to the 2008 8-hour ozone NAAQS; (2) certification that PADEP has adopted and implemented provisions or regulations addressing applicable EPA CTG source categories and that these provisions or regulations represent RACT control levels or control levels more stringent than RACT under the 2008 ozone NAAQS; (3) certification that PADEP has implemented all CTG RACT controls indicated in this SIP revision, based on the EPA's guidance and standards, and that they represent current RACT control levels under the 2008 8-hour ozone NAAQS; and (4) certification that PADEP has determined that there is a CTG source category for which it has made a negative declaration because there are no existing sources for RACT purposes in Pennsylvania.

PADEP has determined that there are no sources in Pennsylvania (excluding Philadelphia County and Allegheny County) covered by EPA's CTG “Control of Volatile Organic Compound Emissions from Large Petroleum Dry Cleaners,” (EPA-450/3-82-009; September 1982) and therefore submitted a negative declaration for that CTG source type.¹

¹ In Pennsylvania, the SIP program is implemented primarily by PADEP, but also by local air agencies in Philadelphia County (the City of Philadelphia Air Management Services (AMS)) and Allegheny County (Allegheny County Health Department (ACHD)). EPA has previously approved SIP submittals addressing CTG requirements for AMS and ACHD. See 84 FR 56946; October 24, 2019 and 84 FR 18736; May 2, 2019, respectively.

2. Incorporation by Reference of New Source Performance Standards (NSPS)

Pennsylvania has incorporated by reference and therefore adopted all of the New Source Performance Standards (NSPS) promulgated by EPA under section 111 of the CAA and found at 40 CFR part 60. 25 Pa. Code 122. PADEP determined that for certain source categories, the Federal requirements of 40 CFR part 60—Standards of Performance for New Stationary Sources, provide RACT level control. PADEP has submitted 25 Pa. Code 122 for inclusion into the SIP. PADEP's August 13, 2018 submittal specifically cites the requirements of 40 CFR part 60, subparts NNN (relating to synthetic organic chemical manufacturing industry (“SOCMI”) distillation operations), RRR (relating to SOCMI reactor processes), and subparts KKK, OOOO, and OOOOa (relating to natural gas processing facilities), and certifies that the requirements of these NSPS constitute VOC RACT for the 2008 ozone NAAQS for the affected source categories.

EPA's CTG entitled “Control of Volatile Organic Compound Emissions from Reactor Processes and Distillation Operations Processes in the Synthetic Organic Chemical Manufacturing Industry, EPA-450/4/-91-031, August 1993” provides that the NSPS requirements of subparts NNN and RRR meet the RACT level controls recommended by the CTG. The required control efficiency of the CTG (98% destruction by weight, or 20 parts per million by volume (ppmv) dry basis, corrected to 3% oxygen) is the same as required by the NSPS.² Essentially, any process vent that is controlled with a combustion device to meet the requirements of the NSPS would meet the RACT recommendations of the CTG. PADEP identified five facilities subject to subparts NNN and RRR. Four of these are subject to control requirements, while one is subject only to record keeping requirements based on a de minimis emissions exemption, consistent with the CTG.

² See 40 CFR 60.662 and 60.702.

25 Pa. Code 122 also incorporates the Federal NSPS requirements of 40 CFR part 60 subparts KKK, OOOO, OOOOa, and the cross-referenced equipment leak detection and repair (LDAR) requirements of subparts VV and VVa. The NSPS requirements from subpart KKK are equivalent to the 1983 CTG for the oil and natural gas industry (1983 CTG).³ Subparts OOOO and OOOOa incorporate the requirements of subpart KKK. PADEP provided a comparison between the applicable provisions of the NSPS and EPA's 1983 CTG.⁴ Based on this comparison, PADEP has determined that the NSPS rules in 40 CFR part 60, subparts KKK, OOOO, and OOOOa, with cross references to subparts VV and VVa, are at least as stringent as the requirements in the 1983 CTG for this source category. Therefore, the Federal NSPS provisions applicable to all of Pennsylvania's current natural gas processing facility sources are sufficient to meet the requirements of the 1983 Oil and Natural Gas CTG for purposes of the 2008 ozone NAAQS. EPA notes that PADEP's August 13, 2018 submittal did not address EPA's “Control Techniques Guidelines for the Oil and Natural Gas Industry, EPA-453/B-16-001, October 2016,” (2016 Oil and Gas CTG). Nothing in this action is intended to speak to SIP obligations related to the 2016 Oil and Gas CTG.

³ See Control Techniques Guidelines for the Oil and Natural Gas Industry, EPA-453/B-16-001, October 2016, Section 8.3.2.1. pp. 8-12, available at: https://www.epa.gov/sites/production/files/2016-10/documents/2016-ctg-oil-and-gas.pdf.

⁴ See Appendix F of PADEP's August 13, 2018 submittal.

3. Incorporation of Source Specific Permit Limits

PADEP found only two sources covered by the “Shipbuilding/Repair ACT (EPA 453/R-94-032, April 1994)” and the EPA's “CTG for Shipbuilding and Ship Repair Operations (Surface Coating) (61 FR 44050, August 27, 1996)” and one source subject to “Control of Volatile Organic Compound Emissions from Air Oxidation Processes in Synthetic Organic Chemical Manufacturing Industry, EPA-450/3-84-015, December 1984” (SOCMI CTG). Rather than promulgate a rule to address the RACT requirements of those two CTGs for only three affected sources, PADEP has incorporated the control requirements of the CTGs into Federally enforceable permits and submitted the applicable permit terms for incorporation into the SIP.

Redacted versions of Permit Nos. 25-00930 (Donjon Shipbuilding) and 26-00545 (Heartland Fabrication) were submitted for incorporation into the Commonwealth's SIP. Generally, the control strategy is to limit the VOC content of the coatings and materials used. The relevant portions of the permits are consistent with the Shipbuilding and Ship Repair Operations (Surface coating) CTG and satisfy the RACT requirements for these sources. A redacted version of Permit No. 39-00024 (Geo. Specialty Chem. Trimet Div.) was also submitted for incorporation into the SIP. PADEP certified that this is the only source that falls within the SOCMI CTG. Pursuant to that CTG, “It is recommended that air oxidation facilities for which an existing combustion device is employed to control process VOC emissions should not be required to meet the 98 percent emissions limit until the combustion device is replaced for other reasons. In other words, no facility would be required to upgrade or replace an existing control device.” ⁵ PADEP determined that the facility's formaldehyde process and catalytic incinerator were installed in 1980, before the December 1984 applicability date of the CTG. PADEP further determined that neither the process nor the control device have been modified since the 1980 installation date. PADEP therefore certified that the existing control strategy and emission limitations in the permit constitute RACT for this particular source.

⁵ See “Control of Volatile Organic Compound Emissions from Air Oxidation Processes in the Synthetic Organic Chemical Manufacturing Industry, EPA, 450/3-84-015, December 1984,” Page 4-1, available at: https://www3.epa.gov/airquality/ctgact/198412vocepa4503-84-015airoxidationprocesses.pdf.

B. Regulatory Revisions Related to VOCs and NOX RACT

The changes proposed by PADEP in this second submittal, entitled “Control of Volatile Organic Compound Emissions from Industrial Cleaning Solvents; General Provisions; Aerospace Manufacturing and Rework; Additional RACT Requirements for Major Sources of NOX and VOCs,” (2006 ICS CTG) include: (1) The addition of 25 Pa. Code 129.63a (relating to the control of VOCs from industrial cleaning solvents (ICS)); (2) amendments to 25 Pa. Code sections 121.1 and 129.51 (definitions and “general” provisions, respectively) in order to support the addition and implementation of section 129.63a; (3) a correction to the VOC emission limit table in 25 Pa. Code section 129.73 (relating to aerospace manufacturing and re-work); and (4) amendments to 25 Pa. Code sections 129.96, 129.97, 129.99, and 129.100 to clarify certain requirements and to update the list of exemptions under RACT II because of previously adopted presumptive VOC RACT regulations.

PADEP determined that the recommendations in EPA's 2006 ICS CTG are technically and economically feasible for sources in this source category, and developed section 129.63a to adopt the relevant limits of the 2006 ICS CTG to implement VOC RACT for sources subject to this CTG in Pennsylvania. Pursuant to section 129.63a(a), the regulation applies to owners/operators of facilities in which industrial cleaning solvents are “used or applied in a cleaning activity at a cleaning unit operation, a work production-related work area, or a part, product, tool, machinery, equipment, vessel, floor or wall.” Facilities are subject to section 129.63a if the combined actual emissions of VOCs from all subject cleaning operations exceed 2.7 tons in any 12-month rolling period, before consideration of controls.

As previously discussed, EPA recently approved sections 129.96, 129.97, and 129.100, and conditionally approved sections 129.98 and 129.99 as part of the May 9, 2019 final action related to Pennsylvania's RACT II regulations.⁶ The RACT II Rule applies statewide to existing major NOX and/or VOC sources in Pennsylvania, except those subject to other Pennsylvania regulations, as specified in 25 Pa. Code 129.96(a)-(b). The emission limits and substantive requirements of sections 129.96, 129.97, 129.99, and 129.100 were not amended. Other specific requirements of PADEP's August 13, 2018 submittals and the rationale for EPA's proposed action are explained in the NPRM and will not be restated here.

⁶ See 84 FR 20274.

III. EPA's Response to Comments Received

EPA received five sets of relevant comments on the March 5, 2020 NPRM (85 FR 12877). All comments received are in the docket for this action. A summary of the comments and EPA's responses are provided herein.

The first set of comments raised concerns about EPA's proposed approval based generally on the adequacy of PADEP's analysis of CTG RACT, and specifically on the analysis for natural gas processing plants.⁷

⁷ Comments 1 and 2 of this preamble, were submitted jointly on behalf of multiple groups. Therefore, responses 1 and 2 of this preamble refer to “commenters” in plural.

Comment 1: The commenters first allege that PADEP's analysis is flawed because it hinges upon a determination that Pennsylvania's VOC controls are “. . . at least as stringent as” the CTGs. The commenters assert that equivalency with the CTGs is not the test that must be passed in a RACT analysis, but rather a starting point. The commenters contend that although CTGs are presumptive norms, EPA is not required to defer to states' reliance on them, nor do CTGs create a rebuttable presumption for the public to overcome. The commenters also take issue with PADEP's assertion that they are unaware of changes in control technology significant enough to generate different results in a RACT analysis. The commenters assert that it is not enough to be unaware, and further, that it is not the public's responsibility to raise such awareness. Additionally, the commenters assert that the absence of information regarding PADEP's review process makes it impossible to determine whether the submittal meets RACT requirements, and whether EPA properly reviewed the submittal in accordance with CAA sections 110(k)(3) and 110(l). Further, the commenters assert that RACT analyses are supposed to be “technology forcing,” and that it is implausible that a thorough and proper analysis of all forty-three CTGs, especially the very old ones, would find that they continue to represent RACT for the affected sources. Finally, the commenters assert that EPA has failed its statutory duty under CAA section 183(b) to review and revise the CTGs and must do so, particularly if limited state resources are to be considered a legitimate reason for failing to perform a more thorough analysis.

Response 1: States have primary responsibility for ensuring air quality within their jurisdictions by submitting SIPs that specify the manner by which the NAAQS will be achieved and maintained. Under the CAA, EPA is tasked with developing CTGs containing recommended presumptive RACT-level controls for certain categories of VOC sources, see CAA sections 108 and 183, while states with Moderate or above nonattainment areas or located in the Ozone Transport Region (OTR) are tasked with ensuring that sources subject to those CTGs adopt RACT-level controls for VOCs. As EPA stated in 1979 “. . . each CTG contains recommendations to the States of what EPA calls the “presumptive norm” for RACT, based on EPA's current evaluation of the capabilities and problems general to the industry.” State Implementation Plans; General Preamble for Proposed Rulemaking on Approval of Plan Revisions for Nonattainment Areas—Supplement (On Control Techniques Guidelines), 44 FR 53761, 53762 (September 17, 1979) (hereafter CTG Supplement). The CTG Supplement then states “[f]or emission limitations that are consistent with the information in the CTGs, therefore, the State may be able to rely solely on the information in the CTG to support its determination that the adopted requirements represent RACT.” For emission limitations that are not consistent with the CTGs, “EPA believes that the State must submit justification of its own, to support its determination.” Id. at 53762.

It is still EPA's view that CTGs represent the presumptive norm for RACT. In the October 20, 2016 memo entitled “Implementing [RACT] Requirements for Sources Covered by the 2016 Control Techniques Guidelines for the Oil and Natural Gas Industries,” EPA reiterated that “[t]he recommended controls in the 2016 Oil and Gas CTG are the `presumptive norm' based on general industry parameters and published assumptions.” Memo, p.2.8 9 EPA has consistently made this claim that CTGs represent the presumptive norms for RACT. See Control of VOC Emissions from Coating Operations at Aerospace manufacturing and Rework Operations, (October 1996), p. 1-1; Control of [VOC] Emissions from Wood Furniture Manufacturing Operations (April 1996), pp. 1-1 to 1-2.¹⁰

⁸ The memo can be found at https://www.epa.gov/sites/production/files/2016-10/documents/implementing_reasonably_available_control_technology_requirements_for_sources_covered_by_the_2016_control_techniques_guidelines_for_the_oil_and_natural_gas_industry.pdf (last accessed July 7, 2020).

⁹ See 85 FR 12877, March 5, 2020.

¹⁰ These and other CTGs can be found at https://www.epa.gov/ground-level-ozone-pollution/control-techniques-guidelines-and-alternative-control-techniques.

EPA's implementation rule for the 2008 ozone NAAQS allows an approach “. . .where states should refer to the existing CTGs and ACTs for purposes of meeting their RACT requirements, as well as all relevant information (including recent technical information and information received during the public comment period).” ¹¹ The 2008 Ozone Implementation Rule also allowed states to conclude that CTG and ACT sources already addressed by RACT determinations for the 1-hour and/or 1997 ozone NAAQS do not need to implement additional controls to meet the 2008 ozone NAAQS RACT requirement, “. . . because the fundamental control techniques, as described in the CTGs and ACTs, are still applicable.” ¹²

¹¹ See 80 FR 12279, March 6, 2015.

¹² Id.

In the absence of contrary information, Pennsylvania can rely on the equivalency of its existing CTG implementation regulations with the recommended RACT controls in the CTGs. If Pennsylvania has determined that their existing RACT-level controls for sources covered by certain CTGs are equivalent to controls recommended in the CTGs, and in the absence of countervailing information, Pennsylvania's determination is entitled to a certain amount of deference. If the state adopts a level of VOC control less than the recommended CTG level of VOC control, then the state must provide information supporting its determination that the CTG RACT level controls are not technically or economically feasible, and EPA must determine if that deviation is justified. Pennsylvania has not indicated that it is deviating from CTG levels of control for any of the sources currently subject to CTGs within its jurisdiction, and the commenters have not submitted any specific information suggesting otherwise for any CTG except the 1983 Oil and Gas CTG.

The commenters also claim that Pennsylvania must do more than be “unaware” of new control technologies by affirmatively searching for information about such technologies. However, Pennsylvania did conduct an assessment of the NSPS and NESHAPs applicable to CTG sources that could have shown new technological developments. As noted by the commenters, Section 6 of PADEP's submittal discusses the process that it followed to evaluate whether the regulations Pennsylvania adopted to implement the CTGs still contain RACT-level controls consistent with the 2008 ozone NAAQS. The submittal states: “PADEP staff began the certification process by reviewing the CAA RACT requirements and CTG recommendations, followed by the review of additional guidance or regulations currently implemented for the affected VOC sources, including but not limited to, EPA's Available Control Technology (ACT) documents, Federal NSPS in 40 CFR part 60, and National Emission Standards for Hazardous Air Pollutants in 40 CFR part 63 for the applicable source categories.” While PADEP did not explicitly state that it researched the availability of new VOC control technologies for sources subject to CTGs, a review of the NSPS and NESHAPS applicable to CTG-covered sources would likely turn up any new control technologies available for VOCs or control of Hazardous Air Pollutants (HAPs), some of which are also VOCs (e.g benzene, toulene, formaldehyde). See CAA section 112(b), 40 CFR 51.100(s).

Furthermore, while it is not necessarily the public's job to make Pennsylvania aware of new control technologies, EPA notes that an important reason for providing the opportunity for public comment at both the state and Federal level is to give the public and stakeholders the opportunity to identify technologies or control methods that the state or Federal government has not considered. Other than the 1983 Oil and Gas CTG, the commenters have not provided specific information challenging the recommended RACT level of controls in the other CTGs which Pennsylvania is certifying as still meeting the RACT requirements of the 2008 ozone NAAQS. Also, PADEP, as the primary CAA enforcement and permitting entity within most of Pennsylvania, is well-positioned to be aware of whether new control technologies exist which could be used by the many varied sources it regulates. In the absence of information provided by the commenters showing that there are new technologies available to control VOCs at the sources covered by the CTGs, and in light of Pennsylvania's statement that it reviewed the NSPS and NESHAPs applicable to CTG sources, EPA will not second-guess the validity of Pennsylvania's search effort.

Regarding the assertion that RACT must be “technology forcing,” EPA notes that RACT limits are not meant to be the lowest achievable emissions rate for each particular source. Rather, since the 1970's, EPA has consistently defined “RACT” as the lowest emission limit that a particular source is capable of meeting by the application of the control technology that is reasonably available considering technological and economic feasibility. See December 9, 1976 memorandum from Roger Strelow, Assistant Administrator for Air and Waste Management, to Regional Administrators, “Guidance for Determining Acceptability of SIP Regulations in Non-Attainment Areas,” and 44 FR 53761 at 53762 (September 17, 1979). As noted in this long-standing definition, technical and economic feasibility must also be considered when assessing whether a new technology should be adopted as the presumptive norm of RACT level control for CTG sources. After reciting the above definition of RACT, the Strelow memo goes on to state: “Thus, RACT encompasses stringent, or even `technology forcing,' requirement that goes beyond simple `off-the-shelf' technology.” Strelow Memo, p. 2.¹³ In the paragraph following this statement, the Strelow memo also states that other factors should be considered in determining RACT: “The determination of RACT and the corresponding emission rate, ensuring the proper application and operation of RACT, may vary from source to source due to source configuration, retrofit feasibility, operation procedures, raw materials, and other technical or economic characteristics of an individual source or group of sources.” Id. Thus, RACT is not necessarily a “one-size-fits-all” technology. The commenter quotes the following from EPA's discussion of RACT in the 1977 CAA amendments “In many cases appropriate controls would be more or less stringent.” See Comment of Air Law for All, p. 6, citing EPA's CTG Supplement, 44 FR 53761, 53762 (September 17, 1979).

¹³ On August 27, 2020, the Third Circuit Court of Appeals issued a decision in Sierra Club v. U.S. EPA, et al., No. 19-2562, which struck down EPA's approval of certain provisions of Pennsylvania's RACT II SIP related to existing Electric Generating Units equipped with Selective Catalytic Reduction for the reduction of Oxides of Nitrogen. In that ruling, the Court pointed to the “technology forcing” language of the Strelow memo incorporated with EPA's longstanding definition of RACT as “the lowest emission limitation that a particular source is capable of meeting by the application of control technology that is reasonably available considering technological and economic feasibility.” Opinion at p.5. Thus, the court affirmed EPA's longstanding approach to analyzing RACT, that is to determine what is technologically and economically feasible.

EPA's role is to review the SIP or SIP revision. EPA cannot disapprove of state regulations that form a SIP or SIP revision because EPA decides that the regulations are not stringent enough, as long as the SIP meets the CAA requirements. The commenters assert that it is “implausible” that a thorough review of all 43 CTGs would find that all still meet RACT requirements for the affected sources, and that PADEP and EPA have neglected to look for information to the contrary. However, with the exception of the 1983 Oil and Gas CTG discussed under “Response 2,” the commenters have not provided any available information allegedly overlooked or ignored by PADEP, nor identified any applicable CAA requirements lacking in PADEP's submittal and EPA's proposed approval.

EPA also does not agree that Pennsylvania's submittal lacked enough information to determine whether Pennsylvania's current regulations still meet RACT requirements. As noted by the commenters, Section 6 of PADEP's submittal discusses the process that it used to evaluate whether the regulations Pennsylvania adopted to implement the CTGs still contain RACT-level controls consistent with the 2008 ozone NAAQS. The submittal states: “PADEP staff began the certification process by reviewing the CAA RACT requirements and CTG recommendations, followed by the review of additional guidance or regulations currently implemented for the affected VOC sources, including but not limited to, EPA's Available Control Technology (ACT) documents, Federal NSPS in 40 CFR part 60, and National Emission Standards for Hazardous Air Pollutants in 40 CFR part 63 for the applicable source categories. Each regulation adopted by Pennsylvania has been evaluated against applicable CTGs, and were found to continue to meet RACT for the applicable source categories.” Table 1 in the submittal then lists each CTG and the citation for the Pennsylvania regulation adopted to implement each CTG, with a brief description of how the CTG limits emissions of VOCs. This allows for a straight-forward comparison of Pennsylvania's adopted regulation with the presumptive RACT set forth in the applicable CTG or CTGs. Again, the commenters also did not identify new technologies or updated limits that should have been considered for any CTG other than the 1983 Oil and Gas CTG. Pennsylvania's failure to “show [its'] work” did not in this instance prevent the commenters from doing its own work (i.e. search for newer control technologies) in response.

Finally, with regard to the commenters' claim that EPA has failed to comply with its statutory obligation under CAA section 183(b) to review and revise the CTGs, EPA notes that this comment is beyond the scope of this action. EPA's role in this action is to review the SIP submitted by Pennsylvania and, if it meets the applicable requirements of the CAA, approve the SIP. See CAA section 110(k)(3) (“In the case of any submittal on which the Administrator is required to act. . ., the Administrator shall approve such submittal as a whole if it meets all of the applicable requirements of this chapter.”). If the commenters believe that EPA has an outstanding obligation to review and revise existing CTGs, the commenters may petition the Agency to do so.

EPA evaluated PADEP's submittal, as described in the NPRM, and reiterated in this document. In accordance with CAA section 110(l), EPA believes approval of the August 13, 2018 submittal will not interfere with any applicable requirement concerning attainment and/or reasonable further progress, or any other applicable CAA requirements. The net effect of the continued operation of controls already implemented in accordance with the CTGs, the addition of new controls via the newly adopted permit requirements, and the newly adopted CTG for Industrial Cleaning Solvents, will be to maintain the current level of reduction of VOCs for many sources while reducing VOC emissions from newly covered sources. Therefore, EPA asserts that approval of this certification for section 182(b)(2) will not interfere with attainment or reasonable further progress for the 2008 ozone NAAQS, or any other identified CAA requirement. For these reasons, EPA disagrees with the commenters and is finalizing approval of PADEP's submittal, in accordance with CAA section 110(k)(3).

Comment 2: The commenters assert that EPA's 2008 ozone implementation rule required that states refer to existing CTGs and alternative control techniques (ACTs) for purposes of meeting their RACT requirements, as well as all relevant information available at the time they are developing the SIP. The commenters allege that PADEP failed to evaluate a number of available control technologies or strategies related to leak detection and repair (LDAR) requirements at natural gas processing facilities, instead relying on a conclusory determination that applicable new source performance standards (NSPS) are at least as stringent as the requirements of the 1983 CTG.¹⁴ The commenters point out that PADEP's submittal identifies fourteen natural gas processing facilities subject to VOC RACT under the 1983 CTG. Ten of these are older gas processing plants that are also subject to the NSPS of 40 CFR part 60, subpart KKK (and thus the LDAR requirements of subpart VV, which is incorporated by reference into subpart KKK), by the applicability criteria of subpart KKK. The other four are newer gas processing plants that are subject to NSPS OOOO because they were constructed or reconstructed after August 23, 2011, which is one of the applicability criteria for subpart OOOO. Subpart OOOO incorporates by reference the more stringent LDAR requirements of subpart VVa. The commenters assert that EPA should disapprove PADEP's submittal because they did not evaluate whether applying the LDAR requirements of VVa to the older facilities was cost effective.

¹⁴ “Control of Volatile Organic Compound Equipment Leaks from natural Gas/Gasoline Processing Plants;” EPA-450/3-83-007; December 1983.

In addition, because EPA initially evaluated the cost effectiveness of subparts VV and VVa as part of the best system of emissions reduction (BSER) analysis for the NSPS, then re-evaluated cost-effectiveness as part of the promulgation of subpart OOOO, and did so again for the 2016 Oil and Gas CTG, the commenters contend that the LDAR requirements of VVa are “available,” and should have been evaluated for control of VOCs at the ten older facilities. The commenters further assert that although the cost analysis performed during the promulgation of subpart OOOO only addressed new/reconstructed sources, there are no retrofit costs associated with the older plants switching from following VV to following VVa, and therefore VVa should have been considered and required for the older facilities.

The commenters also identify the Texas Commission on Environmental Quality's (TCEQ) “28LAER” program as being an additional available control technology which could and should have been evaluated by PADEP. Additionally, the commenters note that the 2016 Oil and Gas CTG identifies optical gas imaging (OGI) as an alternate work practice which is another available control option, but PADEP failed to consider OGI in its analysis.

To support their argument that the LDAR program required by VVa is both available and economically reasonable, the commenters performed a cost effectiveness analysis and determined that VVa's cost of removal is $3766/ton of VOC removed. The commenters assert that EPA determined in the 2016 Oil and Gas CTG that $4400-$5000/ton of VOC removed was reasonable, and that DEP's own analysis in their 2006 RACT submittal for the 1997 ozone NAAQS determined that $3000-$5000/ton was reasonable. Therefore, the commenters assert that the LDAR requirements of VVa are technically and economically reasonable and should have been evaluated and applied. In sum, the commenters assert that PADEP's submittal fails to adequately justify its RACT determination and should therefore be disapproved.

Finally, the commenters identify an error in EPA's approval of PADEP's 2006 VOC RACT submittal as it pertains to natural gas processing plants. PADEP's 2006 RACT submittal included a negative declaration that there were no sources covered by the 1983 CTG, but the commenters allege that PADEP's 2018 submittal identifies six plants that were constructed before 2006 and therefore subject. Additionally, EPA didn't approve the submittal until 2017, by which time all 14 plants had been constructed. The commenters assert that EPA must now correct that error. To the extent EPA believes this is beyond the scope, the commenters state that this comment should be considered a petition under section 553(e) of the Administrative Procedures Act (APA).

Response 2: As clearly stated in the NPRM for this SIP, Pennsylvania's SIP submission is only certifying for the 1983 Oil and Gas CTG, and is not intended to be a certification for the 2016 Oil and Gas CTG.¹⁵ 85 FR 12877, 12880, March 5, 2020. This has two ramifications. First, when developing this SIP submission, Pennsylvania only evaluated whether existing natural gas processing plants were meeting the recommended RACT standards of the 1983 CTG. Nothing in Pennsylvania's SIP submission claims to address whether these plants meet the control levels recommended by the 2016 Oil and Gas CTG. Pennsylvania has published a proposed regulation to address the 2016 Oil and Gas CTG, and the proposal states that when the regulation is final, it will be submitted to EPA as a revision to the State's SIP. 50 Pa B. 2633 (May 23, 2020). The second ramification is that EPA does not have before it in this SIP the question of whether these natural gas processing plants have adopted the RACT level controls recommended in the 2016 Oil and Gas CTG. Therefore, nothing in EPA's action on this SIP should be interpreted as a decision concerning the adequacy of Pennsylvania's future SIP submittal(s) for the 2016 Oil and Gas CTG.

¹⁵ “EPA notes that PADEP's August 13, 2018 submittal did not address EPA's `Control Techniques Guidelines for the Oil and Natural Gas Industry, EPA-453/B-16-001, October 2016,' (2016 Oil and Gas CTG). EPA is, therefore, not proposing action on the submittal in relation to the 2016 Oil and Gas CTG.” 85 FR 12877, 12880, March 5, 2020.

Moreover, the 2016 Oil and Gas CTG explicitly states that it replaces the 1983 Oil & Gas CTG. Section 8 of the CTG, entitled “Equipment Leaks from Natural Gas Processing Plants,” says: “This CTG and the recommended RACT included in this CTG replaces the following: Guideline Series. Control of Volatile Organic Compound Equipment Leaks from Natural Gas/Gasoline Processing Plants. December 1983. EPA-450/3-83-007.” 2016 Oil & Gas CTG, p.8-1. At the time Pennsylvania submitted this SIP in August 2018, the 1983 Oil and Gas CTG had been superseded by the 2016 CTG, but Pennsylvania had not yet adopted new regulations for the 2016 CTG. Given those circumstances, Pennsylvania decided to certify for the 1983 CTG rather than include no certification at all for natural gas processing plants.

The main concern of the commenters seems to be that in certifying for the 1983 CTG, Pennsylvania should have evaluated other and newer sources of information, including the 2016 CTG, in order to determine whether the control measures in the 1983 CTG still constitute RACT levels of control. However, EPA already has done much of this work in updating the 2016 CTG, and Pennsylvania is not certifying in its SIP submission that the control measures they have in place for the 1983 CTG meet the 2016 CTG. Moreover, when Pennsylvania submitted this SIP, an updated SIP addressing the 2016 CTG was not yet due because the 2016 CTG gave affected states two years from the date of publication of the 2016 CTG (October 27, 2016, 81 FR 74798) to submit a SIP addressing the CTG. Therefore, EPA thinks that these concerns and comments are better directed to Pennsylvania's future SIP submission(s) for the 2016 Oil and Gas CTG and any certification contained therein for the purpose of meeting section 182(b)(2) of the CAA. Asking Pennsylvania to re-evaluate RACT level controls for the oil and gas industry in this SIP submittal, for the purpose of certifying for a superseded 1983 CTG, seems like an unnecessary exercise for the state, and EPA declines to require it as part of our consideration of this SIP.

In reaching this conclusion, EPA is not drawing any further conclusions about other claims made by the commenters, such as what the 2008 ozone implementation rule requires, whether newer leak detection and repair (LDAR) technologies are available for gas processing plants, the cost-effectiveness of applying NSPS subpart VVa to older gas processing plants, or the cost analysis submitted by the commenters. EPA is merely saying that in the context of the specific facts of Pennsylvania's certification for the 1983 Oil and Gas CTG, it does not make sense to analyze these issues until Pennsylvania submits its SIP revision addressing the 2016 Oil and Gas CTG. At that time, the issues identified by the commenters should be addressed in Pennsylvania's SIP submission, and if not addressed, raised again by the commenters in any action EPA takes to approve that SIP.

The commenters' concern that many of the CTGs have not been reviewed and updated for many years is noted, but this concern for the 1983 Oil and Gas CTG has been addressed by EPA with the 2016 CTG, and PADEP is in the process of updating its regulations to address the 2016 CTG. PADEP submitted this revision with the intention of meeting the requirements of the old CTG. EPA notes that PADEP has published a notice of proposed rulemaking in order to adopt the requirements of the 2016 CTG.¹⁶ When the provisions of that action are effective and submitted to EPA as a revision to the SIP, they will be evaluated for consistency with the 2016 CTG and RACT. In the meantime, EPA is finalizing approval of the August 13, 2018 submittal.

¹⁶ http://www.pacodeandbulletin.gov/Display/pabull?file=/secure/pabulletin/data/vol50/50-21/684.html.

With respect to the commenters' assertion that EPA must correct the erroneous approval of a 2006 submittal from PADEP, that is beyond the scope of this action, which is only evaluating whether the particular provisions of Pennsylvania's August 13, 2018 SIP meet the requirements of the CAA. Nevertheless, EPA acknowledges that, based on the information in Table A1 of Appendix A in Pennsylvania's August 13, 2008 submittal, EPA's 2017 approval of Pennsylvania's negative declaration for the 1983 Oil and Gas CTG under the 1997 ozone NAAQS may have been in error.¹⁷ According to Table A1, there were six sources which were constructed prior to Pennsylvania's September 25, 2006 submittal, but for which PADEP declared that there were no sources subject to the 1983 Oil and Gas CTG. However, EPA disagrees that the remedy for this error is to now disapprove the 2006 submittal with respect to 1983 CTG RACT requirements for natural gas processing plants. The sources at issue did not escape regulation, and were subject to the same RACT level controls via the NSPS which Pennsylvania has certified are consistent with the 1983 CTG. Even if EPA were now to disapprove PADEP's 2006 submittal, the remedy would be for Pennsylvania to acknowledge that those sources existed in 2006, and that they are subject to RACT level controls consistent with the 1983 CTG, which they have already done in their August 13, 2018 submittal.

¹⁷ 82 FR 31464, July 7, 2017.

Comment 3: The commenter expresses uncertainty and sought clarification on the interplay between the CTGs and the NSPS, specifically as it pertains to applicability. The commenter asks whether PADEP's reliance on NSPS requirements to implement RACT for certain CTG categories has the effect of applying NSPS requirements to any source subject to such a CTG, regardless of the effective date of the NSPS, or whether the source had undergone modifications.

Response 3: NSPS are Federal regulations that are applicable to sources nationwide, regardless of an area's status with respect to an ozone NAAQS or whether the state has adopted the NSPS as part of its SIP. In some cases, such as with subpart KKK discussed previously, EPA and some states (including Pennsylvania) have determined that the control requirements of a particular NSPS are both equivalent to the control requirements of a particular CTG and constitute RACT-level controls. A source that is subject to the CTG can therefore meet RACT control requirements by meeting the NSPS control requirements, and the state can meet its obligation under CAA section 182(b)(2) for that particular CTG so long as the NSPS is incorporated into the SIP (as Pennsylvania is doing here). In the case where the NSPS control requirements also constitute RACT for the CTG sources, if all sources subject to the particular CTG in the state are also subject to the NSPS (that is, meet all the applicability criteria for the NSPS and are in compliance), then the state would not have to adopt separate, stand-alone regulations to implement the CTG requirements because these sources would already be meeting RACT via the NSPS. As discussed in Section II of this preamble, and in response to Comment 2, PADEP identified all sources which were subject to the 1983 Oil and Gas CTG, identified the various NSPS provisions to which each source is already subject, and determined that the NSPS control requirements are at least as stringent as the controls required by the 1983 CTG, which are presumed to be RACT-level controls. Similarly, PADEP identified all sources to which EPA's CTG entitled “Control of Volatile Organic Compound Emissions from Reactor Processes and Distillation Operations Processes in the Synthetic Organic Chemical Manufacturing Industry, EPA-450/4/-91-031, August 1993” apply, and identified how the NSPS requirements applicable to those same sources are at least as stringent as the CTG, which are presumed to be RACT-level controls. PADEP's incorporation by reference of the NSPS, and the incorporation of 25 Pa Code 122 into the Pennsylvania SIP, does not confer NSPS applicability upon sources that are otherwise not subject to that NSPS because the source does not meet the applicability criteria of the NSPS. Rather, PADEP has determined that all of the sources subject to the 1983 Oil and Gas CTG, and the SOCMI CTG are also currently subject to NSPS provisions, and that these NSPS control requirements are at least equivalent to RACT level controls. The incorporation of 25 Pa 122 into the SIP is the vehicle through which PADEP and EPA are ensuring that the Pennsylvania SIP contains federally enforceable RACT control measures for the subject sources. Incorporation of the NSPS into the SIP does not mean that when a source covered by a CTG is exempt from a NSPS due to, for example, being constructed before the NSPS applicability date, that source is automatically subject to the NSPS. In that instance, Pennsylvania would need to find another mechanism for incorporating Federally enforceable RACT level control measures into the SIP, such as adopting a stand-alone regulation (as Pennsylvania did with 25 Pa Code 29.163a, discussed in Section II.B of this preamble), or submitting a permit with source specific RACT determinations (as Pennsylvania did with the permits discussed in Section II.A.3 of this preamble). Therefore, the commenter's assertion that “. . . the EPA and PADEP are now requiring any source that falls under the CTG category, regardless of modifications and repairs to the source, to now be subject to the NSPS,” is incorrect.

Comment 4: The commenter asserts that EPA cannot approve provisions related to subparts OOOO and OOOOa as RACT for the 1983 Oil and Gas CTG, because the Agency has proposed significant revisions to both subparts. The commenter asserts that EPA will have to re-evaluate whether these NSPS, if modified, continue to represent RACT, and therefore must wait until completion of any revisions before asserting that they meet RACT requirements.

Response 4: EPA disagrees with the commenter. EPA's analysis in the 1983 CTG determined that the existing levels of NSPS control were those that were economically and technologically feasible and thereby met the definition of RACT for this category of sources. Pennsylvania's incorporation by reference of the NSPS automatically updates to include new or revised NSPS. However, the adoption of any new or expanded control requirements in these NSPS would not automatically become presumptive RACT for these two CTGs and may require additional analysis to determine whether the costs of the revised NSPS controls meet the economic feasibility portion of EPA's longstanding definition of RACT. Therefore, EPA is finalizing approval of PADEP's submittal.

Comment 5: The commenter asserts that EPA cannot approve subparts NNN and RRR as RACT for sources subject to the CTG for reactor and distillation processes in the synthetic organic chemical manufacturing industry (SOCMI).¹⁸ According to the commenter, hundreds of chemical compounds are not subject to subparts NNN or RRR. Because PADEP attempted to identify sources subject to the CTG by searching for sources subject to the NSPS, commenter asserts that the entire universe of sources subject to the CTG was not captured.

¹⁸ “Control of Volatile Organic Compound Emissions from Reactor Processes and Distillation operations Processes in the Synthetic Organic Chemical Manufacturing Industry;” EPA-450/4/91-031; August 1993 (1993 CTG).

Response 5: EPA disagrees with the commenter's assertions. First, PADEP searched for sources known to be operating in the SOCMI sector using, at a minimum, their “Air Information Management System,” or “AIMS.” Pennsylvania's SIP submittal notes, in response to a similar comment made during the state public notice period, that any sources that were not identified by this search would likely be operating in violation of the NSPS, as well as Pennsylvania's permitting regulations. EPA thinks that PADEP, using both the information at its disposal and its knowledge of the sources of VOC emissions gained from years of inspections, enforcement, and SIP development, has likely identified all the sources potentially subject to this CTG. Those sources not identified are still subject to the CTG, and as noted in Pennsylvania's submission, are likely in violation of multiple Pennsylvania requirements and Federal NSPS. The commenter has not provided any evidence to the contrary, and in the absence of such evidence, EPA believes that PADEP made a reasonable and rational effort to identify sources potentially subject to the SOCMI CTG.

Second, it would be very difficult, if not impossible, for an air agency to search for sources subject to the CTG or NSPS based solely on its use of a particular VOC. The list of chemicals covered by the 1993 CTG for Control of Volatile Organic Compound Emissions from Reactor Processes and Distillation Operations Processes in the Synthetic Organic Chemical Manufacturing Industry (the “SOCMI CTG”) is extensive.¹⁹ Also, some of the NSPS applicable to the SOCMI industry regulate the listed chemicals if they are a product, by-product, co-product, or intermediary. SOCMI CTG, pp. 7-3 to 7-11. EPA is not aware of any database which would identify sources potentially subject to the SOCMI CTG based on the list of chemicals covered, particularly when the chemicals covered include some chemicals used as intermediaries or produced as co-products. As EPA noted in the CTG, “. . . there are different regulations that can apply to the same SOCMI facility, process unit, or process vent. For example, a given SOCMI facility could be subject to all three NSPS (air oxidation,²⁰ distillation,²¹ reactor processes ²²), to the Hazardous Organic NESHAP (HON) ²³ (for process vents), and to regulations developed in accordance with this CTG. The required control efficiency for a combustion control device is the same in all these various regulations. Thus, any process vent that is controlled with a combustion device to meet the requirements of the HON, NSPS, or regulations in accordance with the air oxidation CTG would meet recommended RACT in this CTG, and it is unnecessary to test for applicability for VOC regulation developed in accordance with this CTG (emphasis added).” ²⁴ A review of Table A-1 in the CTG (cited by the commenter) indicates that there are very few, if any, compounds covered by the CTG that are not also covered by one or more of the NSPS/NESHAP regulations which the CTG identifies as providing RACT level controls. Therefore, EPA is approving PADEP's submittal.

¹⁹ See Table 7-1 of the SOCMI CTG for a list of the chemicals covered by the SOCMI CTG, the 1984 Air Oxidation CTG, and various NSPS. SOCMI CTG, p.7-3.

²⁰ 40 CFR part 60, subpart III.

²¹ 40 CFR part 60, subpart NNN.

²² 40 CFR part 60, subpart RRR.

²³ 40 CFR part 63, subpart G.

²⁴ See 1993 CTG at pp 1-2, 1-3.

Comment 6: Additionally, two commenters asserted that EPA should extend the public comment period due to the extenuating circumstances resulting from the COVID-19 pandemic. One of the commenters additionally requested a 15-day extension, based on the complexity and size of Pennsylvania's submittal.

Response 6: EPA acknowledges the many and varied challenges presented by the pandemic. However, the NPRM for this action was published prior to any interruptions in normal business activities. The supporting materials associated with the NPRM were available online, without interruption, for the entire 30-day public comment period. Additionally, the Regional staff, listed in the FOR FURTHER INFORMATION CONTACT section of the NPRM, were working and available throughout the entire comment period. Furthermore, neither commenter identified a specific limitation arising from the pandemic that prevented them or anyone else from being able to adequately review the proposed approval and submit comments. With respect to commenter's assertion that the size and complexity of the submittal warrant a 15-day extension, EPA disagrees. While EPA acknowledges that the action is complex and addresses two submittals concurrently, large portions of the submittals are included as background information and/or supporting documentation. For example, there are approximately sixty-five pages of documentation related to Pennsylvania's public notices. Consequently, EPA finds that the size and complexity of the actual analysis in Pennsylvania's submittals is not extraordinary, and therefore does not require an extraordinary or extended comment period. Therefore, EPA disagrees with the commenters, and is denying the request for an extended public comment period.

IV. Final Action

EPA is approving Pennsylvania's August 13, 2018 submittals as a revision to the Pennsylvania SIP.

V. Incorporation by Reference

In this document, EPA is finalizing regulatory text that includes incorporation by reference. In accordance with requirements of 1 CFR 51.5, EPA is finalizing the incorporation by reference of the Pennsylvania rules regarding definitions and permitting requirements discussed in section II of this preamble. EPA has made, and will continue to make, these materials generally available through https://www.regulations.gov and at the EPA Region III Office (please contact the person identified in the FOR FURTHER INFORMATION CONTACT section of this preamble for more information). Therefore, these materials have been approved by EPA for inclusion in the SIP, have been incorporated by reference by EPA into that plan, are fully Federally enforceable under sections 110 and 113 of the CAA as of the effective date of the final rulemaking of EPA's approval, and will be incorporated by reference in the next update to the SIP compilation.²⁵

²⁵ 62 FR 27968 (May 22, 1997).

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because it is not a significant regulatory action under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by February 12, 2021. Filing a petition for reconsideration by the Administrator of this final rule does not affect the finality of this action for the purposes of judicial review nor does it extend the time within which a petition for judicial review may be filed, and shall not postpone the effectiveness of such rule or action. This action relating to VOC RACT measures in Pennsylvania may not be challenged later in proceedings to enforce its requirements. (See section 307(b)(2).)

List of Subjects in 40 CFR Part 52

Environmental protection, Air pollution control, Incorporation by reference, Ozone, Volatile organic compounds.

Dated: October 22, 2020.
Cosmo Servidio,
Regional Administrator, Region III.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart NN—Pennsylvania

2. In § 52.2020:

a. The table in paragraph (c)(1) is amended by:

1. Under “Chapter 121—General Provisions,” adding a third entry for “Section 121.1” after a second existing entry for “Section 121.1”;

2. Under Title 25, adding the heading entitled “Chapter 122—National Standards of Performance for New Stationary Sources” and entries “Section 122.1”, “Section 122.2”, and “Section 122.3” after the entry “Section 121.11”;

3. Under “Chapter 129—Standards for Sources”:

i. Revising the entry “Section 129.51”;

ii. Adding the entry “Section 129.63a” in numerical order; and

iii. Revising the entries “Section 129.73”, “Section 129.96”, “Section 129.97”, “Section 129.99”, and “Section 129.100”;

b. The table in paragraph (d)(1) is amended by adding entries for “Donjon Shipbuilding”, “Heartland Fabrication, LLC”, and “Geo Specialty Chem Trimet Div” at the end of the table; and

c. The table in paragraph (e)(1) is amended by adding the entry “Reasonably Available Control Technology (RACT) for the 2008 ozone national ambient air quality standard (NAAQS)” at the end of the table.

The revisions and additions read as follows:

§ 52.2020 Identification of plan.

* * * * *

(c) * * *

(1) * * *

State citation | Title/subject | State effective date | EPA approval date | Additional explanation/§ 52.2063 citation
Title 25—Environmental Protection
Article III—Air Resources
Chapter 121—General Provisions
* * * * * * *
Section 121.1 | Definitions | 8/11/18 | 12/14/20, [insert Federal Register citation] | Definition of “Cleaning solvent” is amended.
* * * * * * *
Chapter 122—National Standards of Performance for New Stationary Sources
Section 122.1 | Purpose | 08/01/79 | 12/14/20, [insert Federal Register citation]
Section 122.2 | Scope | 08/01/79 | 12/14/20, [insert Federal Register citation]
Section 122.3 | Adoption of Standards | 12/26/97 | 12/14/20, [insert Federal Register citation]
* * * * * * *
Chapter 129—Standards for Sources
* * * * * * *
Section 129.51 | General | 8/11/18 | 12/14/20, [insert Federal Register citation] | Amended to add references to Section 129.63a.
* * * * * * *
Section 129.63a | Control of VOC emissions from industrial cleaning solvents | 8/11/18 | 12/14/20, [insert Federal Register citation] | Added new Section 129.63a.
* * * * * * *
Section 129.73 | Aerospace manufacturing and rework | 8/11/18 | 12/14/20, [insert Federal Register citation] | Correction to numbering in Table II.
* * * * * * *
Section 129.96 | Applicability | 8/11/18 | 12/14/20, [insert Federal Register citation] | Subsections (a) and (b) are revised.
Section 129.97 | Presumptive RACT requirements, RACT emission limitations and petition for alternative compliance schedule | 8/11/18 | 12/14/20, [insert Federal Register citation] | Section 129.97(k)(1)(ii) is revised.
* * * * * * *
Section 129.99 | Alternative RACT proposal and petition for alternative compliance schedule | 8/11/18 | 12/14/20, [insert Federal Register citation] | Section 129.99(i)(1)(ii) is revised.
Section 129.100 | Compliance demonstration and recordkeeping requirements | 8/11/18 | 12/14/20, [insert Federal Register citation] | Section 129.100(a) is revised.
* * * * * * *

* * * * *

(d) * * *

(1) * * *

Name of source | Permit No. | County | State effective date | EPA approval date | Additional explanations/§§ 52.2063 and 52.2064 citations ¹
* * * * * * *
Donjon Shipbuilding | 25-00930 | Erie | 9/26/17 | 12/14/20, [insert Federal Register citation]
Heartland Fabrication, LLC | 26-00545 | Fayette | 9/28/17 | 12/14/20, [insert Federal Register citation]
Geo Specialty Chem Trimet Div | 39-00024 | Lehigh | 3/21/17 | 12/14/20, [insert Federal Register citation]
¹ The cross-references that are not § 52.2064 are to material that pre-date the notebook format. For more information, see § 52.2063.

* * * * *

(e) * * *

(1) * * *

Name of non-regulatory SIP revision | Applicable geographic area | State submittal date | EPA approval date | Additional explanation
* * * * * * *
Reasonably Available Control Technology (RACT) for the 2008 ozone national ambient air quality standard (NAAQS) | Statewide | 8/13/18 | 12/14/20, [insert Federal Register citation] | This action pertains to control technique guideline (CTG) source categories.

* * * * *

[FR Doc. 2020-23857 Filed 12-11-20; 8:45 am]

BILLING CODE 6560-50-P